INTERNATIONAL TRADE COMMISSION

Forum on Issues Relating to Electronic Filing and Maintenance of Documents

AGENCY: United States International Trade Commission.

ACTION: Notice announcing public forum.

SUMMARY: The United States International Trade Commission announces a public forum on issues relating to electronic filing and maintenance of documents.

DATES: The forum will be held on Wednesday, June 20, 2001, beginning at 10 a.m.

ADDRESSES: The forum will be held in Room 101, 500 E Street SW., Washington, DC 20436.

The event is open to the public, and registration is not required to attend. Seating will be available on a first-come, first-served basis. Any person wishing to make an initial statement, of no more than five minutes in length, may file a request to do so directed to the Secretary to the Commission. Other attendees will be given an opportunity to make statements, as time permits. A request to make an initial statement should indicate the following information: (1) The name of the person desiring to make a statement; (2) the organization or organizations represented by that person, if any; (3) contact information (address, telephone, and e-mail); and (4) information on the specific focus or interest of the person (or his or her organization) and any questions or issues the person would like to raise. A request may be sent by e-mail to “dockets@usitc.gov,” or by mail or hand delivery to the Secretary, United States International Trade Commission, 500 E Street, SW., Washington, DC 20436.

The deadline for receipt of requests is Wednesday, June 13, 2001.

Any person may file written comments about the issues discussed in this notice. Any such comments should be addressed to the Secretary, United States International Trade Commission, 500 E Street, SW., Washington, DC 20436, and must be filed no later than July 6, 2001.

FOR FURTHER INFORMATION CONTACT: Marilyn Abbott (202-205-2799), Deputy Secretary, Office of the Secretary, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (at URL http://www.usitc.gov).

SUPPLEMENTARY INFORMATION: The Commission is holding a forum to seek the public's views on issues relating to electronic filing and maintenance of documents. In particular, and as discussed more fully below, the Commission would like to obtain views on (1) What features of an electronic system might be helpful to users, (2) what technical difficulties might arise in connection with such a system, and (3) how the agency might implement such a system.

In 1996, the Commission established the Electronic Document Imaging System (EDIS), which stores and provides access to docket records in agency investigations. The Commission now is contemplating replacing EDIS with a new document management system that would provide better functionality. In particular, Commission is seeking as part of the new system the capability to accept documents electronically.

The Commission's Rules of Practice and Procedure currently provide for the filing of documents with the agency in paper form. Consistent with the Government Paperwork Elimination Act (GPEA)(Div. C, Title XVII, Pub. L. 105-277), the Commission is considering permitting parties and other persons to file some documents with the agency electronically. The Commission contemplates obtaining the capability to, inter alia: (1) Permit a person to make a filing by uploading it electronically to a Commission Web site; (2) provide security to protect confidential business and business proprietary information from unauthorized disclosure; (3) verify the identity of the submitter through a password, electronic signature, or other security system; (4) acknowledge receipt of the submission by an electronic message to establish when filing occurred; and (5) alert in-house users of new submissions. A new Commission document management system might also permit faster searches for and retrieval of documents in the Commission's docket files than currently permitted by EDIS.

Permitting electronic filing would involve both the acquisition of new information technology and the revision of the agency's procedures, including the Rules of Practice and Procedure. The Commission will provide an opportunity for public comment on any proposed rules amendments, but is seeking the views of the public now on the broader issues raised by the prospect of allowing electronic filing. The Commission encourages party representatives, other document filers, and other interested persons to participate in the forum and provide their views on the issues discussed below as well as others they wish to raise. Considerations such as technical and funding constraints may limit the Commission's ability to implement some of the features that may be suggested at the forum, but the agency plans to take all such views into account in determining whether and how to permit electronic filing and to provide other facilities for doing docket-related business with the Commission electronically.

The Commission wants any document management system it may implement to benefit users inside and outside the agency. Permitting electronic filing would serve no purpose if document filers did not choose to file electronically. Consistent with the GPEA, the Commission does not intend to require electronic filing. The Commission encourages attendees to provide their views on what system features would be helpful to them. For example, some document formats may be easier to use than others. Moreover, some documents, such as papers drafted by the submitter, may be easier to file electronically than others, such as appendices containing material from reference works in hard copy. Further, how deadlines are set for electronic filing may affect a filer's decision to choose between paper and electronic filing.

A particularly relevant topic for the forum would be the potential technical difficulties that may arise in connection with electronic filing. For example, the software that removes confidential business information from the public versions of paper filings may not suffice for an electronic filing. Also, various circumstances may result in a failure to connect to the agency's website, delaying or preventing filing. To aid in such a discussion, the Commission encourages participants in the forum to bring technical staff familiar with the computer systems of participants' organizations.

The Commission is also interested in attendees' comments on how to change the filing process. Currently, filers generally must submit an original and fourteen paper copies of a document. Electronic filing would present the agency with a number of options for how to proceed with respect to that requirement. The Commission could remove entirely the requirement for submitting paper copies. That would mean that Commission personnel either would forgo the use of paper copies or would incur staff time and printing costs making copies for their use. Alternatively, the agency could continue, over the long or short term, to require a number of paper copies. Moreover, the Commission could permit filers to submit certain documents electronically while other types of document would continue to be filed in paper form. In addition, for those documents that eventually would be fileable electronically, electronic filing could be phased in over time so that initially parties could file some documents electronically, but other documents might continue in paper form.

The Secretary to the Commission will preside at the forum, assisted by agency staff who are members of the agency's Document Imaging Oversight Committee. The forum will be open to the public. However, to seek an opportunity to make an initial statement, no longer than five minutes in length, a person must submit a request to do so by the deadline for requests set out above. A person who attends the forum without having submitted such a request will be given an opportunity to make a statement as time permits. A person may submit written comments on the issues raised in this notice by the deadline for written comments set out above whether or not he or she files a request or attends the forum.

Issued: May 17, 2001.
By order of the Commission.
Donna R. Koehnke,
Secretary.

[FR Doc. 01-12885 Filed 5-22-01; 8:45 am]

BILLING CODE 7020-02-P